FEDERAL RESERVE SYSTEM

Federal Open Market Committee; Domestic Policy Directive of August 21, 2001

In accordance with § 271.25 of its rules regarding availability of information (12 CFR part 271), there is set forth below the domestic policy directive issued by the Federal Open Market Committee at its meeting held on August 21, 2001. Subsequently, that domestic policy directive was amended at a telephone conference meeting held on September 17, 2001.¹

¹ Copies of the Minutes of the Federal Open Market Committee meeting of August 21, 2001, which include the domestic policy directive issued at that meeting and the subsequent amendment, are available upon request to the Board of Governors of the Federal Reserve System, Washington, D.C. 20551. The minutes are published in the Federal Reserve Bulletin and in the Board's annual report.

The Federal Open Market Committee seeks monetary and financial conditions that will foster price stability and promote sustainable growth in output. To further its long-run objectives, the Committee in the immediate future seeks conditions in reserve markets consistent with reducing the federal funds rate to an average of around 3-1/2 percent.

On September 17, 2001, the Committee reduced the intended federal funds rate by a further 1/2 percentage point to an average of around 3 percent.

By order of the Federal Open Market Committee, October 12, 2001.

Donald L. Kohn,
Secretary, Federal Open Market Committee.

[FR Doc. 01-26304 Field 10-17-01; 8:45 am]

BILLING CODE 6210-01-S